ENVIRONMENTAL PROTECTION AGENCY

[FRL-7004-2]

Announcement of the Board of Trustees for the National Environmental Education and Training Foundation, Inc.

AGENCY: Environmental Protection Agency (EPA).

ACTION: Notice.

SUMMARY: The National Environmental Education and Training Foundation was created by Public Law 101-619, the National Environmental Education Act of 1990. It is a private 501(c)(3) non-profit organization established to promote and support education and training as necessary tools to further environmental protection and sustainable, environmentally sound development. It provides the common ground upon which leaders from business and industry, all levels of government, public interest groups, and others can work cooperatively to expand the reach of environmental education and training programs beyond the traditional classroom. The Foundation supports a grant program that promotes innovative environmental education and training programs; it also develops partnerships with government and other organizations to administer projects that promote the development of an environmentally literal public.

The Administrator of the U.S. Environmental Protection Agency, as required by the terms of the Act, announces the following three appointments to the National Environmental Education and Training Foundation, Inc. Board of Trustees. The appointees are Thomas M. Ferguson, Chairman and CEO of the First Stanford Corporation; Dorothy P. McSweeny, former Foreign Service Officer, Agency for International Development; and Judge William S. Sessions, former Director of the Federal Bureau of Investigation. These appointees will join the current Board member which include: Walter Higgins, Chairman, President and C.E.O, Sierra Pacific Resources; James Donnelley, Stet & Query Limited Partnership; Dwight Minton, Chairman Emeritus, Church & Dwight; Braden Allenby, Vice President, Environment, Health and Safety, AT&T; Richard Bartlett, Vice Chairman, Mary Kay Holding Corporation; Susan Clark-Johnson, Chairman and CEO, Phoenix Newspapers, Inc.; Dorothy Jacobson, Consultant; Karen Bates Kress, President, KBK Consulting, Inc.; Fred Krupp, Executive Director, Environmental Defense Fund; and, Dennis Wheeler, Chairman, President and C.E.O, Coeur d'Alene Mines Corporation.

Great care has been taken to assure that these new appointees not only have the highest degree of expertise and commitment, but also bring to the Board diverse points of view relating to environmental education and training. These appointments shall be for a period of four years.

Appointee Biographies

Thomas M. Ferguson has, since 1993, served as Director, Chairman, President and CEO of Le@p Technology, Inc., formally Seal Holdings Corporation, a publicly traded holding company focused on the acquisition and development of companies providing services in healthcare and life sciences. Within these fields, Le@p has a particular interest in information technology companies with Internet applications, engaging exclusively in friendly transactions developed in cooperation with a company's management, shareholders and board of directors. Since 1992, he has served First Sanford Corporation in Palm Beach, Florida, a private advisory company for maritime transactions and the development of strategic business/financial plans for national and international companies, as a Director, Chairman and President. Mr. Ferguson serves as a Director of Chamber Companies, LLC. He is the sole stockbroker of First Magnum Corporation, and its sole director and officer. Mr. Ferguson received a BA degree from Florida State University.

Dorothy McSweeny, an oral historian, is a former Foreign Service Officer of the Agency for International Development. She is Chair for Community Development of the National Symphony Orchestra, Chair of Community Program of the Washington Ballet, and Vice-Chair of the D.C. Commission on Arts and the Humanities. Mrs. McSweeny serves on the boards of the National Wildflower Research Center, the Discovery Creek Washington Children's Museum, and the Boston University School of Medicine. Mrs. McSweeny is Vice President of the Environmentors board.

William S. Sessions, Director of the Federal Bureau of Investigations from 1987 to 1993, is currently an attorney in private practice in San Antonio, Texas. He is a member of the Martin Luther King, Jr. Federal Holiday Commission, President of the District Judges Association of the 5th Circuit, Chairman of the Ethics Committee of the Federal Bar Association, and a member of the Executive Committee of Interpol. Judge Sessions was honored as the National Fathers Day Committee Father of the Year.

Dated: June 21, 2001.
Christine Todd Whitman,
Administrator.

[FR Doc. 01-16293 Filed 6-27-01; 8:45 am]

BILLING CODE 6560-50-P